DEPARTMENT OF TRANSPORTATION

Federal Aviation Administration

14 CFR Part 39

[Docket No. FAA-2011-0832; Directorate Identifier 2011-CE-025-AD; Amendment 39-16771; AD 2011-17-07]

RIN 2120-AA64

Airworthiness Directives; M7 Aerospace LP Airplanes

AGENCY: Federal Aviation Administration (FAA), DOT.

ACTION: Final rule; request for comments.

SUMMARY: We are adopting a new airworthiness directive (AD) for certain M7 Aerospace LP Models SA226-T, SA226-T(B), SA226-TC, and SA226-AT airplanes. This AD requires repetitive replacement and inspection of certain elevator, rudder, aileron, and aileron-to-rudder interconnect primary control cables, and checking and setting of flight control cable tension. This AD was prompted by a report of a failure of a rudder control cable. We are issuing this AD to correct the unsafe condition on these products.

DATES: This AD is effective September 1, 2011.

The Director of the Federal Register approved the incorporation by reference of a certain publication listed in the AD as of September 1, 2011.

We must receive comments on this AD by October 3, 2011.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact M7 Aerospace, LC, 10823 NE. Entrance Road, San Antonio, Texas 78216; telephone (210) 824-9421; fax: 800-347-5901; e-mail: http://www.m7aerospace.com/page/1/contact_parts.jsp; Web site: http://www.m7aerospace.com. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Andrew McAnaul, Aerospace Engineer, FAA, ASW-150 (c/o San Antonio MIDO (SW-MIDO-43)), 10100 Reunion Place, Suite 650, San Antonio, Texas 78216; phone: (210) 308-3365; fax: (210) 308-3370; e-mail: andrew.mcanaul@faa.gov.

SUPPLEMENTARY INFORMATION:

Discussion

We received a report of an M7 Aerospace LP Model SA226-T airplane experiencing loss of rudder control during single-engine occurrence training requiring applied full rudder to compensate for yaw effect. The airplane made an uneventful landing. A visual inspection found the left-hand primary rudder control cable had failed where the cable makes a 30 degree angle over a small pulley to accommodate re-routing of the control cable alongside the camera system installed in the center of the cabin.

AD 87-02-02 (52 FR 2511, January 23, 1987) requires periodic inspection or replacement of all flight control cables on Models SA226 and SA227 airplanes. This new AD action requires repetitive replacement of specific flight control cables on affected serial number Model SA226 airplanes that have been modified by installation of a camera system requiring rerouting of the affected flight control cables.

This condition, if not corrected, could result in loss of controlled flight due to failure of a rudder, aileron and/or elevator control cable.

Relevant Service Information

We reviewed M7 Aerospace LP Service Bulletin 226-27-072, dated June 27, 2011. The service information describes procedures for repetitive inspection and replacement of all elevator, rudder, aileron, and aileron-to-rudder interconnect primary control cables.

FAA's Determination

We are issuing this AD because we evaluated all the relevant information and determined the unsafe condition described previously is likely to exist or develop in other products of these same type designs.

AD Requirements

This AD requires accomplishing the actions specified in the service information described previously.

FAA's Justification and Determination of the Effective Date

An unsafe condition exists that requires the immediate adoption of this AD. The FAA has found that the risk to the flying public justifies waiving notice and comment prior to adoption of this rule because if an elevator cable or another cable in certain situations breaks, the outcome can be catastrophic. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include “Docket No. FAA-2011-0832; Directorate Identifier 2011-CE-025-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 4 airplanes of U.S. registry.

We estimate the following costs to comply with this AD:

Estimated Costs
Action | Labor cost | Parts cost | Cost per product | Cost on U.S. operators
Logbook check | 1 work-hour × $85 per hour = $85 | Not Applicable | $85 | $340.
Inspection of all elevator, rudder, aileron, and aileron-to-rudder interconnect primary control cables | 80 to 100 work-hours × $85 per hour = $6,800 to $8,500 | Not Applicable | $6,800 to $8,500 | $27,200 to $34,000.
Replacement of all elevator, rudder, aileron, and aileron-to-rudder interconnect primary control cables | 120 to 180 work-hours × $85 per hour = $10,200 to $15,300 | $18,800 | $29,000 to $34,100 | $116,000 to $136,400.
Check (set) flight control cable tension | 20 to 25 work-hours × $85 per hour = $1,700 to $2,125 | Not Applicable | $1,700 to $2,125 | $6,800 to $8,500.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-17-07 M7 Aerospace LP: Amendment 39-16771; Docket No. FAA-2011-0832; Directorate Identifier 2011-CE-025-AD.

(a) Effective Date

This AD is effective September 1, 2011.

(b) Affected ADs

AD 87-02-02 (52 FR 2511, January 23, 1987) requires repetitive inspection or replacement of all flight control cables on Models SA226 and SA227 airplanes. This new action requires repetitive replacement of specific flight control cables on affected serial number Model SA226 airplanes that have been modified by installation of a camera system requiring rerouting of the affected flight control cables.

(c) Applicability

This AD applies to the following M7 Aerospace LP airplanes, certificated in any category, as identified in Table 1 of this AD:

Table 1—Applicability
Model— | Serial Nos.—
SA226-T | T265, T267.
SA226-T(B) | T(B)348.
SA226-TC | TC277.
SA226-AT | AT071, AT072, AT073.

(d) Subject

Joint Aircraft System Component (JASC)/Air Transport Association (ATA) of America Code: 27, Flight Controls.

(e) Unsafe Condition

This AD was prompted by a report of a failure of a rudder control cable. We are issuing this AD to correct the unsafe condition on these products.

(f) Compliance

Comply with this AD within the compliance times specified, unless already done, following M7 Aerospace LP Service Bulletin 226-27-072, dated June 27, 2011. If the hours time-in-service (TIS) of the control cables can not be positively determined by the logbook, then you must use hours TIS of the airplane to comply with the requirements of this AD.

(g) Inspection

(1) For cables with more than 6,000 hours TIS: Inspect cables for deficiencies within 10 hours TIS after September 1, 2011 (the effective date of this AD).

(2) If any deficiencies are found during the inspection required in paragraph (g)(1) of this AD, before further flight replace cables.

(h) Replacement

(1) Replace primary control cables within the initial compliance times as listed below and repetitively thereafter at intervals not to exceed 3,500 hours time-in-service (TIS):

(i) For cables with less than or equal to 3,500 hours TIS: Replace cables when the control cables reach a total of 3,500 hours TIS or 150 hours TIS after September 1, 2011 (the effective date of this AD), whichever occurs later.

(ii) For cables with less than or equal to 5,000 hours TIS but greater than 3,500 hours TIS: Replace cables within 150 hours TIS after September 1, 2011 (the effective date of this AD).

(iii) For cables with more than 5,000 hours TIS: Replace cables within 50 hours TIS after September 1, 2011 (the effective date of this AD).

(2) Between 50 hours TIS and 200 hours TIS after installing any new control cable as required in paragraphs (g)(2) or (h)(1) of this AD, check (set) flight control cable tension.

(i) Alternative Methods of Compliance (AMOCs)

(1) The Manager, Fort Worth Airplane Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

For more information about this AD, contact Andrew McAnaul, Aerospace Engineer, FAA, ASW-150 (c/o San Antonio MIDO (SW-MIDO-43)), 10100 Reunion Place, Suite 650, San Antonio, Texas 78216; phone: (210) 308-3365; fax: (210) 308-3370; e-mail: andrew.mcanaul@faa.gov.

(k) Material Incorporated by Reference

You must use the following service information to do the actions required by this AD, unless the AD specifies otherwise.

(1) The Director of the Federal Register approved the incorporation by reference (IBR) under 5 U.S.C. 552(a) and 1 CFR part 51 of M7 Aerospace LP Service Bulletin 226-27-072, dated June 27, 2011, on September 1, 2011.

(2) For service information identified in this AD, contact M7 Aerospace, LC, 10823 NE. Entrance Road, San Antonio, Texas 78216; telephone (210) 824-9421; fax: 800-347-5901; e-mail: http://www.m7aerospace.com/page/1/contact_parts.jsp; Web site: http://www.m7aerospace.com.

(3) You may review copies of the referenced service information at the FAA, Small Airplane Directorate, 901 Locust, Kansas City, Missouri 64106. For information on the availability of this material at the FAA, call 816-329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on August 2, 2011.
John R. Colomy,
Acting Manager, Small Airplane Directorate, Aircraft Certification Service.

[FR Doc. 2011-20127 Filed 8-16-11; 8:45 am]

BILLING CODE 4910-13-P